DEPARTMENT OF JUSTICE

Notice of Lodging Proposed Consent Decree

In accordance with Departmental Policy, 28 CFR 50.7, notice is hereby given that a proposed Consent Decree in United States v. Apex Energy, Inc. et al., Civil No. 7:08-cv-00213, was lodged with the United States District Court for the Eastern District of Kentucky on November 13, 2008.

This proposed Consent Decree concerns a complaint filed by the United States against Apex Energy, Cambrian Coal Corporation, and Marshall Resources, Inc., pursuant to section 301(a) of the Clean Water Act, 33 U.S.C. 1311(a), to obtain injunctive relief and impose civil penalties against the Defendants for violating the Clean Water Act by discharging fill material without a permit into waters of the United States. The proposed Consent Decree resolves these allegations by requiring the Defendants to pay a civil penalty. In addition, Defendants have agreed to make a payment to the Kentucky Department of Fish and Wildlife Resources' Stream and Wetlands Mitigation Program which would be used for stream restoration and enhancement projects on private lands in Kentucky. The Department of Justice will accept written comments relating to this proposed Consent Decree for thirty (30) days from the date of publication of this Notice. Please address comments to Paul Cirino, U.S. Department of Justice, Environment & Natural Resources Division, Environmental Defense Section, P.O. Box 23986, Washington, DC 20026-3986 and refer to United States v. Apex Energy, Inc. et al., DJ #90-5-1-1-17714.

The proposed Consent Decree may be examined at the Clerk's Office, United States District Court for the Eastern District of Kentucky, 260 West Vine Street, Suite 300, Lexington, Kentucky 40507-1671. In addition, the proposed Consent Decree may be viewed at http://www.usdoj.gov/enrd/Consent_Decrees.html.

Stephen Samuels,
Assistant Chief, Environmental Defense Section, Environment & Natural Resources Division.

[FR Doc. E8-27444 Filed 11-18-08; 8:45 am]

BILLING CODE 4410-CW-P